DEPARTMENT OF THE INTERIOR

Bureau of Land Management

[MT-070-02-1430-ES; MTM 90728]

Notice of Realty Action; Recreation and Public Purposes (R&PP) Act Classification; Montana

AGENCY: Bureau of Land Management, Interior

ACTION: Notice.

SUMMARY: The following described lands in Broadwater County, Montana have been examined and found suitable for classification for conveyance to Broadwater County under the provisions of the Recreation and Public Purposes Act, as amended (43 U.S.C. 869 et.seq.). Broadwater County proposes to use the lands for expansion of an existing shooting range on county land.

Principal Meridian, Montana

T. 7 N., R. 1 E.,

Sec. 21: E½

Sec. 28: N½NE¼

Containing 400 acres.

The lands are not needed for Federal purposes. The patent is consistent with the Headwaters Resource Management Plan and would be in the public interest.

The patent, when issued, will be subject to the following terms, conditions and reservations:

1. Provisions of the Recreation and Public Purposes Act and to all applicable regulations of the Secretary of the Interior.

2. A right-of-way for ditches and canals constructed by the authority of the United States.

3. All minerals shall be reserved to the United States, together with the right to prospect for, mine, and remove the minerals.

4. A limited reverter provision wherein the lands will revert back to the United States if they are not substantially developed on or before 5 years after issuance of patent. However, under no circumstances will any portion of the lands that have been used for any purpose that may result in the disposal, placement, or release of any hazardous substance revert to the United States.

Detailed information concerning this action is available for review at the office of the Bureau of Land Management, Butte Field Office, 160 North Parkmont, Butte, Montana.

Upon publication of this notice in the Federal Register, the lands will be segregated from all other forms of appropriation under the public land laws, including the general mining laws, except for conveyance under the Recreation and Public Purposes Act and leasing under the mineral leasing laws. For a period of 45 days from the date of this notice, interested parties may submit comments regarding the proposed conveyance or classification of the lands to the Field Manager, Butte Field Office, 106 North Parkmont, Butte, Montana 59701.

Classification Comments: Interested parties may submit comments involving the suitability of the land for a shooting range. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a shooting range.

Any adverse comments will be reviewed by the State Director. In the absence of any adverse comments, the classification will become effective 60 days from the date of publication of this notice in the Federal Register.

Dated: September 3, 2002.
Steve Hartmann,
Acting Field Manager.

[FR Doc. 02-23153 Filed 9-9-02; 12:08 pm]

BILLING CODE 4310-$$-P